DEPARTMENT OF TRANSPORTATION

Federal Aviation Administration

14 CFR Part 39

[Docket No. FAA-2022-0151; Project Identifier MCAI-2021-00521-A; Amendment 39-22078; AD 2022-12-06]

RIN 2120-AA64

Airworthiness Directives; Costruzioni Aeronautiche Tecnam S.P.A. Airplanes

AGENCY: Federal Aviation Administration (FAA), DOT.

ACTION: Final rule.

SUMMARY: The FAA is adopting a new airworthiness directive (AD) for certain Costruzioni Aeronautiche Tecnam S.P.A. Model P2012 Traveller airplanes. This AD was prompted by mandatory continuing airworthiness information (MCAI) originated by an aviation authority of another country to identify and correct an unsafe condition on an aviation product. The MCAI describes the unsafe condition as free play in the trim tab actuator and trim tab surface. This AD requires repetitively inspecting the trim tab trailing edge to determine if free play exists and taking corrective actions as needed. The FAA is issuing this AD to address the unsafe condition on these products.

DATES: This AD is effective July 19, 2022.

The Director of the Federal Register approved the incorporation by reference of a certain publication listed in this AD as of July 19, 2022.

ADDRESSES: For service information identified in this final rule, contact Costruzioni Aeronautiche Tecnam S.P.A., Airworthiness Office Via S. D'acquisto 62, Boscotrecase, 80042, Italy; phone: +39 0823 997538; email: traveller.support@Tecnam.com; website: https://www.Tecnam.com. You may view this service information at the FAA, Airworthiness Products Section, Operational Safety Branch, 901 Locust, Kansas City, MO 64106. For information on the availability of this material at the FAA, call (817) 222-5110. It is also available at https://www.regulations.gov by searching for and locating Docket No. FAA-2022-0151.

Examining the AD Docket

You may examine the AD docket at https://www.regulations.gov by searching for and locating Docket No. FAA-2022-0151; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, FAA, General Aviation & Rotorcraft Section, International Validation Branch, 901 Locust, Room 301, Kansas City, MO 64106; phone: (816) 329-4165; email: jim.rutherford@faa.gov.

SUPPLEMENTARY INFORMATION:

Background

The FAA issued a notice of proposed rulemaking (NPRM) to amend 14 CFR part 39 by adding an AD that would apply to certain serial-numbered Costruzioni Aeronautiche Tecnam S.P.A. Model P2012 Traveller airplanes. The NPRM published in the Federal Register on March 7, 2022 (87 FR 12627). The NPRM was prompted by MCAI originated by the European Union Aviation Safety Agency (EASA), which is the Technical Agent for the Member States of the European Union. EASA issued AD 2021-0119, dated April 30, 2021 (referred to after this as “the MCAI”), to address the unsafe condition on Costruzioni Aeronautiche Tecnam S.P.A. Model P2012 Traveller airplanes with serial numbers (S/Ns) 002 through 030 inclusive. The MCAI states:

Occurrences have been reported of vibration in the horizontal stabiliser control yoke and pedals, both sides. The subsequent investigation identified free play in the trim tab actuator and trim tab surface.

This condition, if not detected and corrected, could lead to a significant free play on the trim tab connection, with consequent increase in dynamic loads and vibrations, possibly resulting in reduced control of the aeroplane.

To address this potential unsafe condition, TECNAM issued the [Service Bulletin] SB to provide inspection instructions.

For the reasons described above, this [EASA] AD requires repetitive inspections of the trim tab trailing edge and, depending on findings, accomplishment of applicable corrective action(s).

You may examine the MCAI in the AD docket at https://www.regulations.gov by searching for and locating Docket No. FAA-2022-0151.

In the NPRM, the FAA proposed to require repetitively inspecting the trim tab trailing edge to determine if free play exists and taking corrective actions as needed. The FAA is issuing this AD to prevent reduced airplane control.

Discussion of Final Airworthiness Directive

Comments

The FAA received comments from Hyannis Air Service, Inc. (Hyannis). The following presents the comments received on the NPRM and the FAA's response to each comment.

Request To Withdraw the NPRM

Hyannis stated that the unsafe condition has been addressed by the manufacturer's revision to the Airworthiness Limitations section (ALS) of the aircraft maintenance manual (AMM) to include the repetitive inspections and criteria to determine continued serviceability of the elevator trim tab control system as described in paragraphs (f) and (g) of the proposed AD. Hyannis further stated that 14 CFR 43.16 and 14 CFR 91.403(c) require compliance with the ALS of a manufacturer's AMM. The FAA infers that Hyannis is requesting that the FAA withdraw the NPRM.

The FAA disagrees. Although the regulations cited by the commenter do require maintenance be performed in accordance with a manufacturer's ALS, an operator is only required to use the version of the ALS that was delivered with its airplane. The NPRM applied to Costruzioni Aeronautiche Tecnam S.P.A. Model P2012 Traveller airplanes with S/Ns 002 through 030, inclusive, which were delivered with a version of the ALS that pre-dated the inspection and criteria required by paragraphs (f) and (g) of this AD. Later manufacturer revisions to the ALS are not mandatory for all operators, absent an AD or other rule that would require the new ALS provisions to be used. Therefore, this AD is necessary to ensure that the identified unsafe condition is addressed on these airplanes.

Request To Change the Service Information

Hyannis requested that the FAA revise the proposed inspection and maintenance actions to require using Section 55 of the AMM instead of Tecnam Service Bulletin 398-CS-Edition 2, Rev. 1, dated August 17, 2020 (Tecnam SB 398-CS-Edition 2, Rev. 1). Hyannis stated that Tecnam SB 398-CS-Edition 2, Rev. 1, is not current. Specifically, Hyannis explained that the manufacturer improved the design of the elevator trim actuator (modification 2012/157), which is installed on new airplanes beginning with S/N 025, and that the servicing instructions for this actuator are not included in Tecnam SB 398-CS-Edition 2, Rev. 1. However, Hyannis stated that the servicing instructions for both the older elevator trim actuator and the improved elevator trim actuator were included in Edition 5, dated January 14, 2022, of Section 55 of the AMM.

The FAA disagrees that requiring compliance with Section 55 of the AMM is necessary to correct the unsafe condition. Tecnam SB 398-CS-Edition 2, Rev. 1, refers to Tecnam Job Card 1249, which includes servicing instructions for both the older and the modification 2012/157 actuators. If an operator prefers to use the latest AMM revision for accomplishing the inspection and servicing tasks, the operator may request to do so through the alternative method of compliance (AMOC) process following paragraph (i) of this AD. The FAA has not changed the AD in this regard.

Request To Expand the Applicability

Hyannis requested the FAA revise the applicability of the proposed AD to include all Model P2012 Traveller airplanes, regardless of S/N. Hyannis stated that there are airplanes on the U.S. Registry with S/Ns greater than S/N 030 with the same elevator tab control system design.

The FAA disagrees. The ALS in Edition 4, Revision 0, dated March 19, 2021, of the AMM includes the repetitive inspections and criteria to determine continued serviceability of the elevator trim tab control system required by paragraphs (f) and (g) of this AD. Model P2012 airplanes having S/Ns 031 and later were delivered with the updated ALS found in AMM, Edition 4, Revision 0, or a later version. 14 CFR 43.16 and 14 CFR 91.403(c) require inspection and maintenance specified in an ALS of a manufacturer's AMM to be completed in accordance with that section. Therefore, Model P2012 airplanes with S/Ns 031 and larger are not subject to the unsafe condition. The FAA has not changed this final rule regarding this comment.

Conclusion

This product has been approved by the aviation authority of another country and is approved for operation in the United States. Pursuant to the FAA's bilateral agreement with this State of Design Authority, it has notified the FAA of the unsafe condition described in the MCAI and service information referenced above. The FAA reviewed the relevant data, considered the comments received, and determined that air safety requires adopting this AD as proposed. Accordingly, the FAA is issuing this AD to address the unsafe condition on this product. This AD is adopted as proposed in the NPRM.

Related Service Information Under 1 CFR Part 51

The FAA reviewed Tecnam Service Bulletin 398-CS-Edition 2, Rev. 1, dated August 17, 2020. The service information specifies procedures for inspecting the trim tab trailing edge to determine if free play exists and taking corrective actions as needed.

This service information is reasonably available because the interested parties have access to it through their normal course of business or by the means identified in the ADDRESSES section.

Other Related Service Information

The FAA also reviewed Tecnam Service Bulletin 398-CS-Edition 2, Rev. 0, dated August 5, 2020. The service information specifies procedures for inspecting the trim tab trailing edge to determine if free play exists and taking corrective actions as needed.

In addition, the FAA reviewed Tecnam Job Card No. 1249 Ed.1, Rev.1, dated May 5, 2021. The service information specifies procedures for servicing free play of the mechanical trim actuator.

Costs of Compliance

The FAA estimates that this AD affects 21 airplanes of U.S. registry.

The FAA estimates the following costs to comply with this AD:

Estimated Costs
Action | Labor cost | Parts cost | Cost per airplane | Cost on U.S. operators
Trim tab surface free play inspection | 1 work-hour × $85 per hour = $85 | Not applicable | $85 per inspection cycle | $1,785 per inspection cycle.

The FAA estimates the following costs to do any necessary actions that would be required based on the results of the mandated inspection. The FAA has no way of determining the number of airplanes that might need these actions.

On-Condition Costs
Action | Labor cost | Parts cost | Cost per airplane
Trim actuator free play inspection | 2 work-hours × $85 per hour = $170 | Not applicable | $170
Trim actuator servicing | 2 work-hours × $85 per hour = $170 | $100 | 270
Trim actuator replacement | 1 work-hour × $85 per hour = $85 | 1,000 | 1,085

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-12-06 Costruzioni Aeronautiche Tecnam S.P.A.: Amendment 39-22078; Docket No. FAA-2022-0151; Project Identifier MCAI-2021-00521-A.

(a) Effective Date

This airworthiness directive (AD) is effective July 19, 2022.

(b) Affected ADs

None.

(c) Applicability

This AD applies to Costruzioni Aeronautiche Tecnam S.P.A. Model P2012 Traveller airplanes, serial numbers 002 through 030 inclusive, certificated in any category.

(d) Subject

Joint Aircraft System Component (JASC) Code 2731: Elevator Tab Control System.

(e) Unsafe Condition

This AD was prompted by mandatory continuing airworthiness information (MCAI) originated by an aviation authority of another country to identify and correct an unsafe condition on an aviation product. The MCAI describes the unsafe condition as free play in the trim tab actuator and trim tab surface. The FAA is issuing this AD to detect and correct free play in the trim tab connection, which could lead to reduced airplane control.

(f) Compliance

Comply with this AD within the compliance times specified, unless already done.

(g) Trim Tab Surface Free Play Inspection and Maintenance

Within 100 hours time-in-service (TIS) after the effective date of this AD and thereafter at intervals not to exceed 100 hours TIS, measure the trim tab surface for free play in accordance with Appendix A, Accomplishment Instructions, section 2 (Step 1—Trim Tab surface free play measurement) on pages 3 and 4 of Tecnam Service Bulletin 398-CS-Edition 2, Rev. 1, dated August 17, 2020 (Tecnam SB 398-CS-Edition 2, Rev. 1). If there is free play that exceeds the allowable tolerance, before further flight, measure the trim tab actuator for free play and take any corrective actions in accordance with Appendix A, Accomplishment Instructions, section 3 (Step 2—Trim Actuator free play measurement) on page 5 of Tecnam SB 398-CS-Edition 2, Rev 1.

(h) Credit for Previous Actions

You may take credit for the initial inspection required by paragraph (g) of this AD if you performed that action before the effective date of this AD using Tecnam Service Bulletin 398-CS-Edition 2, Rev. 0, dated August 5, 2020.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, FAA, General Aviation & Rotorcraft Section, International Validation Branch, 901 Locust, Room 301, Kansas City, MO 64106; phone: (816) 329-4165; email: jim.rutherford@faa.gov.

(2) Refer to European Union Aviation Safety Agency (EASA) AD 2021-0119, dated April 30, 2021, for more information. You may examine the EASA AD in the AD docket at https://www.regulations.gov by searching for and locating Docket No. FAA-2022-0151.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Tecnam Service Bulletin 398-CS-Edition 2, Rev. 1, dated August 17, 2020.

(ii) [Reserved]

(3) For service information identified in this AD, contact Costruzioni Aeronautiche Tecnam S.P.A., Airworthiness Office, Via S. D'acquisto 62, Boscotrecase, 80042, Italy; phone: +39 0823 997538; email: traveller.support@Tecnam.com; website: https://www.Tecnam.com.

(4) You may view this referenced service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on June 4, 2022.
Gaetano A. Sciortino,
Deputy Director for Strategic Initiatives, Compliance & Airworthiness Division, Aircraft Certification Service.

[FR Doc. 2022-12762 Filed 6-13-22; 8:45 am]

BILLING CODE 4910-13-P